NATIONAL ARCHIVES AND RECORDS ADMINISTRATION

[NARA-2024-019]

Agency Information Collection Activities: Submission for OMB Review; Comment Request

AGENCY: National Archives and Records Administration (NARA).

ACTION: Notice.

SUMMARY: NARA has submitted to OMB for approval the information collection described in this notice. We invite you to comment on this information collection.

DATES: OMB must receive written comments on or before April 4, 2024.

ADDRESSES: Send any comments and recommendations on the proposed information collection in writing to www.reginfo.gov/public/do/PRAMain. You can find this particular information collection by selecting “Currently under 30-day Review—Open for Public Comments” or by using the search function.

FOR FURTHER INFORMATION CONTACT: Tamee Fechhelm, Paperwork Reduction Act Officer, by email at tamee.fechhelm@nara.gov or by telephone at 301.837.1694 with any requests for additional information.

SUPPLEMENTARY INFORMATION: Pursuant to the Paperwork Reduction Act of 1995 (Pub. L. 104-13), we invite the public and other Federal agencies to comment on proposed information collections. We published a notice of proposed collection for this information collection on December 8, 2023 (88 FR 85659) and we received no comments. We are therefore submitting the described information collection to OMB for approval.

If you have comments or suggestions, they should address one or more of the following points: (a) Whether the proposed information collection is necessary for NARA to properly perform its functions; (b) our estimate of the burden of the proposed information collection and its accuracy; (c) ways we could enhance the quality, utility, and clarity of the information we collect; (d) ways we could minimize the burden on respondents of collecting the information, including through information technology; and (e) whether this collection affects small businesses.

In this notice, we solicit comments concerning the following information collection:

Title: Request Pertaining to Military Records.

OMB Number: 3095-0029.

Agency Form Numbers: SF 180 and NA Form 13176; online form in eVetRecs is an electronic equivalent to the SF 180.

Type of Review: Regular.

Affected Public: Individuals who request access to military records, military medical records, and medical records of military dependents.

Estimated Number of Respondents: 871,294.

Estimated Time per Response: 5 minutes.

Frequency of Response: On occasion (when an individual wishes to request information from military records, military medical records, or medical records of military dependents).

Estimated Total Annual Burden Hours: 72,607 hours.

Abstract: The general purpose of this voluntary data collection is to determine what is being requested, where records are located, what information is releasable, and where to send the response. When third parties submit requests, the information collected and provided serves as records of disclosure, which are required by the Privacy Act. The information collected via the SF 180 and eVetRecs is vital to our National Personnel Records Center, which stores and handles these records. We need this information to locate and release information from requested records. It also significantly improves our ability to provide timely and accurate information to requesters.

Sheena Burrell,
Executive for Information Services/CIO.

[FR Doc. 2024-04595 Filed 3-4-24; 8:45 am]

BILLING CODE 7515-01-P